FEDERAL MARITIME COMMISSION

[Docket No. 03-08]

Trans-Net, Inc. v. Fesco Ocean Management Limited; Notice of Filing of Complaint and Assignment

Notice is given that a complaint has been filed by Trans-Net, Inc. (“Complainant”), against FESCO Ocean Management Limited (“Respondent”). Complainant contends that Respondent violated sections 5, 10(a)(2), and 10(d)(1) of the Shipping Act of 1984, 46 U.S.C. app. 1704, 1709(a)(2) and (d)(1), and 535.901 of the Commission's regulations. Specifically, Complainant alleges that Respondent has operated and continues to operate under agreements that were required to be filed with the Commission, and has failed to establish and maintain reasonable regulations and practices in connection with the receiving, handling, storing or delivering of property. Complainant seeks an order finding Respondent to have violated the sections cited above, directing Respondent to cease and desist, and awarding unspecified reparations, including interest and attorneys' fees.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by August 2, 2004, and the final decision of the Commission shall be issued by November 30, 2004.

Karen V. Gregory,
Acting Assistant Secretary.

[FR Doc. 03-20069 Filed 8-6-03; 8:45 am]

BILLING CODE 6730-01-P